DEPARTMENT OF COMMERCE

National Oceanic and Atmospheric Administration

50 CFR Part 600

[I.D. 031401E]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue an EFP that would allow six vessels to conduct fishing operations otherwise restricted by the regulations governing the fisheries of the northeastern United States. The Maine Department of Marine Resources (Maine DMR) has submitted an application for the issuance of EFPs to six commercial longline and tub trawl vessels. The EFPs would allow six federally permitted vessels to fish for and possess Atlantic halibut (Hippoglossus hippoglossus) within a portion of the Gulf of Maine/Georges Bank Regulated Mesh Area in excess of the possession limit. The EFP would also authorize these vessels to land legal-sized Atlantic halibut for commercial sale in excess of the landing limit. The purpose of the experiment is to continue the collection of data on the distribution, relative abundance, migration, stock definition, mortality rates, stock size, yield, and other significant biological reference points of Atlantic halibut to be used in the long-term management of the species. Regulations under the Magnuson-Stevens Fishery Conservation and Management Act require publication of this notification to provide interested parties the opportunity to comment on applications for proposed EFPs.

DATES: Comments on this notification must be received at the appropriate address or fax number (see ADDRESSES) on or before April 11, 2001.

ADDRESSES: Written comments should be sent to Patricia Kurkul, Regional Administrator, NMFS, Northeast Regional Office, One Blackburn Drive, Gloucester, MA 01930. Mark the outside of the envelope “Comments on EFP Proposal.” Comments may also be sent via facisimile (fax) to (978) 281-9135.

FOR FURTHER INFORMATION CONTACT: Allison Ferreira, Fishery Management Specialist, 978-281-9103.

SUPPLEMENTARY INFORMATION: Maine DMR submitted an industry cooperative proposal on November 14, 2000, for six EFPs to fish for and possess Atlantic halibut in a portion of the Gulf of Maine/Georges Bank Regulated Mesh Area. The proposed experiment is a continuation of an experimental fishery conducted in 2000 to gather biological information on Atlantic halibut to be used in the long-term management of this species.

The study would occur from April 1 through May 31, 2001, and take place in the eastern Gulf of Maine in an area defined by the following coordinates:

Area Point | N. Latitude | W. Longitude
HAL 1 | Mainland Maine Coastline | 69° 00″
HAL 2 | 43° 12.3″ | 69° 00″
HAL 3 | 43° 58.3″ | 67° 21.5″
HAL 4* | Mainland Maine Coastline and U.S./Canada Maritime Boundary | Mainland Maine Coastline and U.S./Canada Maritime Boundary
*Between points HAL 3 and HAL 4, the area follows the U.S./Canada maritime boundary.

The industry collaborative experiment involves Maine DMR, with consultation provided by the NMFS Northeast Fisheries Science Center (Center). The experiment proposes to continue the collection of data on the distribution, relative abundance, migration, stock definition, mortality rates, stock size, yield, and other significant biological reference points of Atlantic halibut in the eastern Gulf of Maine. In addition, the experiment would collect information on age and growth, size and sex composition, and rate and onset of sexual maturity.

The gear to be used during the experiment would consist of traditional longline and tub trawl gear. Vessels would be limited to a maximum number of 700 hooks per boat, and restricted to using circle hooks no smaller than 14/0 in size.

The maximum number of vessels participating in the experiment at a given time would be six, and the maximum number of Atlantic halibut to be harvested would be 1,080 fish--the amount of halibut requested for the 2000 experimental fishery. The maximum number of fish that could be harvested equates to 180 fish per vessel (1,080 divided by 6). Maine DMR has further proposed that each vessel be given a 50-fish total allowable catch (TAC). Once this TAC is reached, each vessel would be restricted to landing six fish per vessel per day, the same as for the 2000 experiment.

Logbooks would be used to obtain information on length of all halibut caught, whether retained or released, time and place of all halibut caught, tag number (as applicable), amount of gear used, bait type used, and identification and measurement on any other species caught as bycatch. For all halibut that are retained, stomachs and gonads would be preserved, otoliths extracted, and the corresponding fish length recorded. All halibut less than 36 inches (91.44 cm) total length (TL) would be sampled for scales, measured, tagged and released. Only legal-sized halibut would be retained for commercial sale.

Training in the procedures for collecting this information would be provided by Maine DMR and/or Center personnel. All participants would also be required to complete a training program in the tagging and release of Atlantic halibut. Maine Sea Grant will provide this training program, with the assistance and guidance of the Pacific Halibut Commission. All participants in the experimental fishery would be required to sample retained halibut for otoliths and non-retained halibut for scales, as well as other biological information, or samples as requested by Maine DMR and/or the Center.

Vessels may be required to carry onboard observers as requested by NMFS and Maine DMR. Onboard observers will be trained by Maine DMR and/or Center personal in the protocols of the experiment. Maine DMR observer staff, Maine Sea Grant staff and University of Maine students would be utilized as observers for this experiment.

EFPs would be issued to up to six participating federally permitted vessels at any one time to exempt them from landing and possession limits for Atlantic halibut. These EFPs would also authorize the vessels to land for commercial sale Atlantic halibut that conform with the minimum size requirement of 36 inches (91.44 cm) TL.

Authority: 16 U.S.C. 1801 et seq.

Dated: March 21, 2001.
Bruce C. Morehead,
Acting Director, Office of Sustainable Fisheries, National Marine Fisheries Service.

[FR Doc. 01-7542 Filed 3-26-01; 8:45 am]

BILLING CODE 3510-22-S